DEPARTMENT OF DEFENSE

Department of the Army; Corps of Engineers

Intent To Prepare a Joint Supplemental Environmental Impact Statement/Supplemental Environmental Impact Report for the Port of Los Angeles Channel Deepening Project Additional Disposal Capacity; Los Angeles County, CA

AGENCY: Department of the Army; U.S. Army Corps of Engineers, DOD.

ACTION: Notice of intent/notice of preparation.

SUMMARY: The U.S. Army Corps of Engineers (Corps) is currently constructing the Channel Deepening Project. Disposal sites developed for the Channel Deepening Project have proven to be inadequate to provide disposal capacity for all sediments that require removal as part of the Channel Deepening Project. In addition, as identified in the project Feasibility Study, various berths located throughout the Port of Los Angeles (POLA) require dredging in order to accommodate deeper draft vessels that the Channel Deepening Project will allow to navigate the Main Channel.

DATES: A formal scoping meeting to solicit public comment and concerns on the proposed action and alternatives will be held on November 30, 2004, at 6 p.m.

ADDRESSES: The meeting location is in the Bannings Landing Community Center; 100 East Water Street; Wilmington, CA 90748. Telephone: (310) 522-2015.

FOR FURTHER INFORMATION CONTACT: For further information contact Mr. Larry Smith, U.S. Army Corps of Engineers, Los Angeles District, CESPL-PD-RN, P.O. Box 532711, Los Angeles, CA 90053-2325; phone (213) 452-3846; or E-mail: lawrence.j.smith@spl.usace.army.mil.

SUPPLEMENTARY INFORMATION: 1. Authorization: The study was authorized by the Water Resources Development Act of 2000.

2. Background: The Supplemental Environmental Impact Statement/Supplemental Environmental Impact Report (SEIS/SEIR) supplements the Port of Los Angeles Channel Deepening Project SEIS/SEIR (SEPT 2000) that supplemented the Deep Draft Navigation Improvements, Los Angeles and Long Beach Harbors, San Pedro Bay, California Environmental Impact Statement/Environmental Impact Report (SEPT 1992) and the Channel Deepening Project Port of Los Angeles Environmental Impact Report (JAN 1998).

3. Proposed Action: The Corps is currently constructing the Channel Deepening Project. Disposal sites developed for the Channel Deepening Project have proven to be inadequate to provide disposal capacity for all sediments that require removal as part of the Channel Deepening Project. In addition, as identified in the project Feasibility Study, various berths located throughout the POLA require dredging in order to accommodate deeper draft vessels that the Channel Deepening Project will allow to navigate the Main Channel. The following plan has been identified to provide additional disposal capacity and to mitigate impacts: (1) Expand the Pier 300 expansion site by up to 40 acres; (2) mitigate for loss of eelgrass by building an eelgrass restoration site of approximately 20 acres in the Seaplane Lagoon or Seaplane Anchorage; (3) expand the Cabrillo Shallow Water Habitat by approximately 35 acres to mitigate for loss of shallow water habitat; (4) cap the Consolidated Slip; and (5) construct a 15-acre land area within the existing Cabrillo shallow water habitat at the San Pedro Breakwater for future use as a migratory bird nesting area.

4. Alternatives: Alternative disposal sites being considered are: (1) No action; (2) offshore disposal at LA-2 of suitable fine-grained materials that have no beneficial use; (3) disposal in the Pier 400 submerged material storage site reducing water depth from—15′ MLLW to-12′ MLLW; (4) disposal in the Pier 400 submerged material storage site creating up to 40 acres of new land; (5) fill two existing slips at Berths 243-245; (6) disposal in the West Channel from an existing depth of—30 to-35′ MLLW to-15′ MLLW or (7) fill the northwest slip located in the West Basin between Berths 129-136. A combination of sites may be selected based on dredge material volume, and potential impacts from the use of each disposal site. The proposed plan, viable project alternatives, and the “no action” plan will be carried forward for detailed analysis pursuant to the National Environmental Policy Act (NEPA) of 1969 (42 U.S.C. 4321, as amended) and the California Environmental Quality Act (CEQA) of 1970 (Public Resources Code, Sections 21000-21177).

5. Scoping Process: a. Potential impacts associated with the proposed action will be fully evaluated. Resource categories that will be analyzed are: Biology, air quality, water quality, cultural resources, land use, geology, recreational, aesthetics, ground and vessel transportation, noise, public health and safety, and utilities.

b. The Corps and the POLA are preparing a joint SEIS/SEIR to address potential impacts associated with the proposed project. The Corps is the Lead Federal Agency for compliance with NEPA for the project, and the POLA is the Lead State Agency for compliance with the CEQA for the non-Federal aspects of the project. The Draft SEIS/SEIR (DSEIS/SEIR) document will incorporate public concerns in the analysis of impacts associated with the Proposed Action and associated project alternatives. The DSEIS/SEIR will be sent out for a 45-day public review period, during which time both written and verbal comments will be solicited on the adequacy of the document. The Final SEIS/SEIR (FSEIS/SEIR) will address the comments received on the DSEIS/SEIR during public review, and will be furnished to all who commented on the DSEIS/SEIR, and is made available to anyone that requests a copy during the 30-day public comment period. The final step involves, for the federal SEIS, preparing a Record of Decision (ROD) and, for the state SEIR, certifying the SEIR and adopting a Mitigation Monitoring and Reporting Plan. The ROD is a concise summary of the decisions made by the Corps from among the alternatives presented in the FSEIS/SEIR. The ROD can be published immediately after the FSEIS public comment period ends. A certified SEIR indicates that the environmental document adequately assesses the environmental impacts of the proposed project with respect to CEQA.

c. The public, as well as Federal, State, and local agencies are encouraged to participate in the scoping process by attending the scoping meeting and/or submitting data, information, and comments identifying relevant environmental and socioeconomic issues to be addressed in the environmental analysis. Useful information includes other environmental studies, published and unpublished data, historical photos of the area, alternatives that should be addressed in the analysis, and potential environmental enhancement and restoration opportunities that exist along the Main Channel and San Pedro Bay. Individuals and agencies may offer information or data relevant to the proposed study and provide comments by attending the public scoping meeting, or by mailing the information to Mr. Larry Smith before December 13, 2004. Requests to be placed on the mailing list for announcements and the DSEIS/SEIR should also be sent to Mr. Larry Smith.

Dated: October 28, 2004.
John V. Guenther,
Lieutenant Colonel, US Army, Acting District Engineer.

[FR Doc. 04-24639 Filed 11-3-04; 8:45 am]

BILLING CODE 3710-KF-M